DEPARTMENT OF COMMERCE

Census Bureau

Agency Information Collection Activities; Submission to the Office of Management and Budget (OMB) for Review and Approval; Comment Request; Redistricting Data Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 6, 2024, during a 60-day comment period. This notice allows for an additional 30 days for public comments.

Agency: U.S. Census Bureau, Commerce.

Title: Redistricting Data Program.

OMB Control Number: 0607-0988.

Form Number(s): Certification Forms (4), Verification Forms (2) and Feedback Form.

• Phase 4 Certification Form (States with Multiple Congressional Districts).

• Phase 4 Certification Form (States with a Single Congressional District).

• Phase 4 Certification Form (District of Columbia).

• Phase 4 Certification Form (Commonwealth of Puerto Rico).

• Phase 4 Verification Form (Congressional Districts).

• Phase 4 Verification Form (State Legislative Districts).

• RDP Feedback Form

Type of Request: Regular submission, request for a revision of a currently approved collection.

Number of Respondents:

• Solicitation of Non-Partisan Liaisons: 52.

• Collection of Post-2020 Census Congressional and State Legislative District Plans: 52.

• Block Boundary Suggestion Project (BBSP) Delineation Phase: 52.

• BBSP Verification Phase: 52.

• Feedback: 52.

Average Hours per Response:

• Solicitation of Non-Partisan Liaisons: 6 hours.

• Collection of Post-2020 Census Congressional and State Legislative District Plans: 8 hours.

• BBSP Delineation Phase: 124 hours.

• BBSP Verification Phase: 62 hours.

• Feedback: 1 hour.

Burden Hours: 10,452.

• Solicitation of Non-Partisan Liaisons: 312 hours.

• Collection of Post-2020 Census Congressional and State Legislative District Plans: 416 hours.

• BBSP Delineation Phase: 6,448 hours.

• BBSP Verification Phase: 3,224 hours.

• Feedback: 52 hours.

Needs and Uses: The Redistricting Data Program (RDP) is executed under the provisions of title 13, section 141(c) of the United States Code (U.S.C.). Under the provisions of Public Law 94-171, as amended (title 13, United States Code (U.S.C.), section 141(c)), the Secretary of Commerce, who designates this responsibility to the Director of the Census Bureau, is required to provide the “officers or public bodies having initial responsibility for the legislative apportionment or districting of each state” with the opportunity to “identify the geographic areas” (e.g., Voting Districts (wards and election precincts), congressional and state legislative districts, census blocks) “for which specific tabulations of population are desired” and to deliver those counts in a timely manner.

The Solicitation of Non-Partisan Liaisons occurs by mail (U.S. Postal Service) beginning in January 2025 and includes follow up emails to the governors and the majority and minority legislative leadership in the 50 states, the District of Columbia (DC), and the Commonwealth of Puerto Rico (PR). Non-partisan liaisons are appointed through a response to that solicitation letter mailed or emailed to the Census Bureau and signed by the legislative leadership. Once appointed, the liaisons serve as the primary point of contact for the Census Bureau to execute the Collection of Post-2020 Census Congressional and State Legislative District Plans and the BBSP. Additionally, once the liaisons have been appointed, they serve as liaisons through the entire RDP, ending in 2035.

Liaisons are emailed an invitation to submit any updates to their Post-2020 Census Congressional and State Legislative Districts in 2025. This collection is performed every two years. Changes are submitted to the Census Bureau electronically using email to confirm changes or no changes and the Census Bureau's secure online data sharing portal to submit their boundary and data updates when necessary. This process is the same as that used for the prior collection in 2024.

Liaisons are emailed an invitation to participate in the delineation cycle of the BBSP in 2026 and the verification cycle of the BBSP in 2027. Changes are submitted to the Census Bureau electronically using email to report no changes (during the verification cycle) and the Census Bureau's secure online data sharing portal to submit their BBSP updates. The BBSP has not appreciably changed since it last occurred from 2016-2017 as a part of the 2020 RDP.

These activities directly support the Census Bureau's efforts to comply with Public Law 94-171 by providing states, DC, and PR the opportunity to identify the small area tabulations they need for legislative redistricting and by supplying them with that data in a timely manner. Participation is strictly voluntary. The states, DC, and PR are the only authorities that can choose where and how to draw their district boundaries.

In addition, these activities assist in maintaining the Master Address File/Topologically Integrated Geographic Encoding and Referencing (MAF/TIGER) System, in partnership with tribal, state, and local governments nationwide. Because tribal, state, and local governments have current knowledge of, and data about, where housing growth and change are occurring in their jurisdictions, their input into the overall development of geographic data for the Census Bureau makes a vital contribution. Similarly, those governments are in the best position to work with local geographic boundaries, and they benefit from accurate address and geographic data.

The Census Bureau is adding a feedback component to its geographic partnership programs to allow for the solicitation of feedback to improve the administration of the respective program and potentially reduce the future burden. Liaisons may be asked to provide their feedback on materials, method(s) of data collection, manner of communications, and the usability of the program applications and tools.

Affected Public: State and local governments.

Frequency: Annually.

Respondent's Obligation: Voluntary.

Legal Authority: Public Law 94-171, as amended (title 13, U.S.C., section 141(c)).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0988.

Sheleen Dumas,
Department PRA Clearance Officer, Office of the Under Secretary for Economic Affairs, Commerce Department.

[FR Doc. 2024-22451 Filed 9-30-24; 8:45 am]

BILLING CODE 3510-07-P